DEPARTMENT OF TRANSPORTATION

Federal Aviation Administration

14 CFR Part 39

[Docket No. 95-CE-46-AD; Amendment 39-13596; AD 2004-09-07]

RIN 2120-AA64

Airworthiness Directives; Raytheon Aircraft Company Model 1900, 1900C, 1900C (C-12J), and 1900D Airplanes

AGENCY: Federal Aviation Administration (FAA), DOT.

ACTION: Final rule.

SUMMARY: The FAA adopts a new airworthiness directive (AD) for certain Raytheon Aircraft Company (Raytheon) Model 1900, 1900C, 1900C (C-12J), and 1900D airplanes that do not have canted bulkhead Kit No. 129-4005-1 S incorporated. This AD requires you to repetitively inspect the canted bulkhead located at Fuselage Station (FS) 588.10 for cracks and incorporate canted bulkhead Repair Kit No. 129-4005-1 S anytime cracks are found. When Kit No. 129-4005-1 S is incorporated, the repetitive inspection requirement in this AD is terminated and no further action is required. This AD is the result of numerous reports of multi-site cracks occurring in the canted bulkhead at FS 588.10. We are issuing this AD to detect and correct cracks in the canted bulkhead. These cracks could result in failure of the bulkhead. Failure of the canted bulkhead could lead to loss of rudder and elevator control, which could result in loss of control of the airplane.

DATES: This AD becomes effective on June 14, 2004.

As of June 14, 2004, the Director of the Federal Register approved the incorporation by reference of certain publications listed in the regulation.

ADDRESSES: You may get the service information identified in this AD from Raytheon Aircraft Company, 9709 E. Central, Wichita, Kansas 67201-0085; telephone: (800) 429-5372 or (316) 676-3140.You may view the AD docket at FAA, Central Region, Office of the Regional Counsel, Attention: Rules Docket No. 95-CE-46-AD, 901 Locust, Room 506, Kansas City, Missouri 64106. Office hours are 8 a.m. to 4 p.m., Monday through Friday, except Federal holidays.

FOR FURTHER INFORMATION CONTACT: Steven E. Potter, Aerospace Engineer, Wichita Aircraft Certification Office (ACO), FAA, 1801 Airport Road, Wichita, Kansas 67209; telephone: (316) 946-4124; facsimile: (316) 946-4407.

SUPPLEMENTARY INFORMATION:

Discussion

What events have caused this AD? We have received numerous reports of multi-site cracks in the canted bulkhead at Fuselage Station (FS) 558.10 on Raytheon 1900 Series airplanes. Cracks were found at the outer flange radius, the outer flange stringer cutouts, and at the flight control system support brackets of the canted bulkhead.

Has FAA taken any action to this point? We issued a proposal to amend part 39 of the Federal Aviation Regulations (14 CFR part 39) to include an AD that would apply to certain Raytheon Aircraft Company Model 1900, 1900C, 1900C (C-12J), and 1900D airplanes that do not have canted bulkhead Kit No. 129-4005-1 S incorporated. This proposal was published in the Federal Register as a supplemental notice of proposed rulemaking (NPRM) on November 18, 2003 (68 FR 64996). The supplemental NPRM was proposed to require you to:

—Repetitively inspect the canted bulkhead located at FS 588.10 for cracks; and

—Incorporate canted bulkhead Repair Kit No. 129-4005-1 S if any cracks are found and as a terminating action for the repetitive inspection requirement. When Kit No. 129-4005-1 S is incorporated, no further action is required.

What is the potential impact if FAA took no action? This condition, if not detected and corrected, could prevent the bulkhead from carrying its limit and ultimate design load because of cracks in the canted bulkhead. Failure of the bulkhead could affect the rudder cable tension and result in loss of elevator and rudder control, which could result in loss of control of the airplane.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 364 airplanes in the U.S. registry.

What is the cost impact of this AD on owners/operators of the affected airplanes? We estimate the following costs to accomplish the inspection:

Labor cost | Parts cost | Total cost per airplane | Total cost on U.S. operators
2 workhours × $65 per hour = $130 | Not applicable | $130 | $130 × 364 = $47,320.

We estimate the following costs to accomplish any necessary modification that will be required based on the results of the inspection(s). We have no way of determining the number of airplanes that may need this modification:

Labor cost | Parts cost | Total cost per airplane
80 workhours × $65 per hour = $5,200 | $718 | $5,200 + $718 = $5,918.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 95-CE-46-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-09-07 Raytheon Aircraft Company: Amendment 39-13596; Docket No. 95-CE-46-AD.

When Does This AD Become Effective?

(a) This AD becomes effective on June 14, 2004.

What Other ADs Are Affected by This Action?

(b) None.

What Airplanes Are Affected by This AD?

(c) This AD affects the following airplane models and serial numbers that:

(1) do not have canted bulkhead Kit No. 129-4005-1 incorporated; and

(2) are certificated in any category:

Model | Serial Nos.
1900 | UA-1 through UA-3.
1900C | UB-1 through UB-74 and UC-1 through UC-174.
1900C (C12J) | UD-1 through UD-6.
1900D | UE-1 through UE-113.

What Is the Unsafe Condition Presented in This AD?

(d) This AD is the result of numerous reports of multi-site cracks occurring in the canted bulkhead at FS 588.10. We are issuing this AD to detect and correct cracks in the canted bulkhead, which could result in failure of the bulkhead. Failure of the canted bulkhead could lead to loss of rudder and elevator control, which could result in loss of control of the airplane.

What Must I Do To Address This Problem?

(e) To address this problem, you must do the following:

Actions | Compliance | Procedures
(1) Inspect the canted bulkhead at Fuselage Station (FS) 588.10 for fatigue cracks | Initially inspect at whichever occurs later, unless already done: Upon the accumulation of 5,000 hours time-in-service (TIS) or within the next 600 hours TIS after June 14, 2004 (the effective date of this AD). If no cracks are found, repetitively inspect thereafter at intervals not to exceed 600 hours TIS until Kit No. 129-4005-1 S is incorporated. When Kit No. 129-4005-1 S is incorporated, no further action is required | Follow Raytheon Aircraft Company Mandatory Service Bulletin SB 53-2564, Revision 2, Revised: July, 2003.
(2) If cracks exist or are found during any inspection required in paragraph (e)(1) of this AD, Kit No. 129-4005-1 S must be incorporated | Before further flight after the inspection in which the cracks are found or known to exist | Follow Raytheon Aircraft Company Mandatory Service Bulletin SB 53-2564, Revision 2, Revised: July, 2003.
(3) Incorporating Kit No. 129-4005-1 S is the terminating action for the repetitive inspection requirements specified in paragraph (e)(1) of this AD | Kit No. 129-4005-1 S can be incorporated at any time. When incorporated, no further action is required | Follow Raytheon Aircraft Company Mandatory Service Bulletin SB 53-2564, Revision 2, Revised: July, 2003.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Steven E. Potter, Aerospace Engineer, Wichita ACO, FAA, 1801 Airport Road, Wichita, Kansas 67209; telephone: (316) 946-4124; facsimile: (316) 946-4407.

Does This AD Incorporate Any Material by Reference?

(g) You must do the actions required by this AD following the instructions in Raytheon Aircraft Company Mandatory Service Bulletin SB 53-2564, Revision 2, Revised: July, 2003. The Director of the Federal Register approved the incorporation by reference of this service bulletin in accordance with 5 U.S.C. 552(a) and 1 CFR part 51. You may get a copy from Raytheon Aircraft Company, 9709 E. Central, Wichita, Kansas 67201-0085; telephone: (800) 429-5372 or (316) 676-3140. You may review copies at FAA, Central Region, Office of the Regional Counsel, 901 Locust, Room 506, Kansas City, Missouri 64106; or at The National Archives and Records Administration (NARA). For information on the availability of this material at NARA, call 202-741-6030, or go to: http://www.archives.gov/federal_register/code_of_federal_regulations/ibr_locations.html.

Issued in Kansas City, Missouri, on April 21, 2004.
Dorenda D. Baker,
Manager, Small Airplane Directorate, Aircraft Certification Service.

[FR Doc. 04-9898 Filed 5-4-04; 8:45 am]

BILLING CODE 4910-13-P